CONSUMER PRODUCT SAFETY COMMISSION

16 CFR Part 1221

[CPSC Docket No. CPSC-2011-0064]

Safety Standard for Play Yards; Correction

AGENCY: Consumer Product Safety Commission.

ACTION: Direct final rule; correction.

SUMMARY: The U.S. Consumer Product Safety Commission (CPSC) is correcting an error in a direct final rule, “Safety Standard for Play Yards,” issued pursuant to a statutory requirement in section 104 of the Consumer Product Safety Improvement Act (CPSIA), and published on January 29, 2025.

DATES: This correction is effective on April 5, 2025, unless the Commission receives a significant adverse comment by February 28, 2025. If the Commission receives such a comment, it will publish a document in the Federal Register, withdrawing this direct final rule correction before its effective date. The incorporation by reference of the publication listed in this rule is approved by the Director of the Federal Register as of April 5, 2025.

ADDRESSES: See the ADDRESSES section of the direct final rule at 90 FR 8368 (January 29, 2025) for information on submitting comments.

FOR FURTHER INFORMATION CONTACT: Alberta E. Mills, Office of the Secretary, U.S. Consumer Product Safety Commission, 4330 East West Highway, Bethesda, Maryland 20814, telephone: 301-504-7479; email: cpsc-os@cpsc.gov.

SUPPLEMENTARY INFORMATION: CPSC is correcting a direct final rule that appeared in the Federal Register on January 29, 2025. The CPSIA sets forth a process for updating mandatory standards for durable infant or toddler products that are based on a voluntary standard, when a voluntary standards organization revises the standard. In September 2024, ASTM published a revised voluntary standard, ASTM F406-24, and this direct final rule updates the mandatory standard for play yards to incorporate by reference the 2024 version of ASTM F406. The play yard direct final rule, in 16 CFR 1221.2(b)(6), directs readers to not comply with section 10.1.1.1 of ASTM F406-24; this section does not exist in the 2024 version of the ASTM standard.

Correction

§ 1221.2 [Corrected]

In FR Doc. 2025-01658, beginning on page 8368 in the issue of Wednesday, January 29, 2025, on page 8374, in the third column, correct 16 CFR 1221.2 by removing paragraph (b)(6).

Alberta E. Mills,
Secretary, Consumer Product Safety Commission.

[FR Doc. 2025-02602 Filed 2-13-25; 8:45 am]

BILLING CODE 6355-01-P